DEPARTMENT OF THE INTERIOR

National Park Service

[NPS-WASO-NAGPRA-NPS0030086; PPWOCRADN0-PCU00RP14.R50000]

Notice of Intent To Repatriate Cultural Items: Thomas Burke Memorial Washington State Museum, University of Washington, Seattle, WA

AGENCY: National Park Service, Interior.

ACTION: Notice.

SUMMARY: The Thomas Burke Memorial Washington State Museum (Burke Museum), in consultation with the appropriate Indian Tribes or Native Hawaiian organizations, has determined that the cultural items listed in this notice meet the definition of sacred objects and objects of cultural patrimony. Lineal descendants or representatives of any Indian Tribe or Native Hawaiian organization not identified in this notice that wish to claim these cultural items should submit a written request to the Burke Museum. If no additional claimants come forward, transfer of control of the cultural items to the lineal descendants, Indian Tribes, or Native Hawaiian organizations stated in this notice may proceed.

DATES: Lineal descendants or representatives of any Indian Tribe or Native Hawaiian organization not identified in this notice that wish to claim these cultural items should submit a written request with information in support of the claim to the Burke Museum at the address in this notice by May 20, 2020.

ADDRESSES: Sven Haakanson, Curator of Native American Anthropology, Burke Museum, University of Washington, Box 353010, Seattle, WA 98195, telephone (206) 543-3210, email svenh@uw.edu.

SUPPLEMENTARY INFORMATION: Notice is here given in accordance with the Native American Graves Protection and Repatriation Act (NAGPRA), 25 U.S.C. 3005, of the intent to repatriate cultural items under the control of the Thomas Burke Memorial Washington State Museum, University of Washington, Seattle, WA, that meet the definition of sacred objects and objects of cultural patrimony under 25 U.S.C. 3001.

This notice is published as part of the National Park Service's administrative responsibilities under NAGPRA, 25 U.S.C. 3003(d)(3). The determinations in this notice are the sole responsibility of the museum, institution, or Federal agency that has control of the Native American cultural items. The National Park Service is not responsible for the determinations in this notice.

History and Description of the Cultural Item(s)

Between 1920-1953, five cultural items were removed from Wrangell, AK, by Mr. Walter C. Waters. In 1953, the items were sold to the Burke Museum by his widow. The five sacred objects/objects of cultural patrimony are Keet S'aaxw, Killerwhale hat (catalog number 1-1436), a Aankáawu Wóodzagaa, Rich Man's Cane, also known as Keet Wóodzakaa, Killerwhale Cane (catalog number 1-1443), Sáax, L'axkeit, Marmot Mask (catalog number 1-1442), Xoots Shakee.át, Bear Headdress (catalog number 1-1447) and Xoots Koodás', Bear Shirt (catalog number 1-1493).

At an unknown date, one cultural item was removed from Wrangell, AK. The item, a Gunakadeit s'eik daakeit, Sea Monster Pipe (catalog number 2.5E561), was acquired by Leonard M. Lasser of Windsor, CT, who donated the pipe to the Burke Museum in 1972.

Sometime between 1926-1937, one cultural item was collected by Axel Rasmussen in Wrangell AK. In 1948, the Portland Art Museum purchased Axel Rasmussen's collection, including the Xoots L'axkeit, Grizzly Bear Mask (catalog number 2.5E604). They later deaccessioned the piece, and it was acquired by Bill Holm, who then donated it to the Burke Museum in 1974.

These seven objects all originate from Wrangell AK. This area is the home of Naanya.áayí Clan of the Tlingit people of Southeastern Alaska. Several of these objects are visible in historic photographs including a photograph of Chief Shakes V (Kaawishté) laying in state ca. 1878, and a photograph of Chief Shakes VI (Gush Tlein) along with the possessions of the Naanya.áayí clan inside X'atgoo Hít (Mudshark House) around 1900. Information provided by the Tribes indicates that the Naa Shaadeihani, (head man) or Hit s'aasti (House Leader) were caretakers of these objects, but the objects were communally owned by the clan. These leaders and their relatives were not allowed to make independent decisions to dispose of or alienate clan property. Additionally, these objects are an integral part of ceremonial practices of the Tlingit people and are used during ceremonial activities to represent and unify clan members. Today the Naanya.áayí clan is represented by the Wrangell Cooperative Association and the Central Council of the Tlingit & Haida Indian Tribes.

Determinations Made by the Burke Museum

Officials of the Burke Museum have determined that:

• Pursuant to 25 U.S.C. 3001(3)(C), the seven cultural items described above are specific ceremonial objects needed by traditional Native American religious leaders for the practice of traditional Native American religions by their present-day adherents.

• Pursuant to 25 U.S.C. 3001(3)(D), the seven cultural items described above have ongoing historical, traditional, or cultural importance central to the Native American group or culture itself, rather than property owned by an individual.

• Pursuant to 25 U.S.C. 3001(2), there is a relationship of shared group identity that can be reasonably traced between the sacred objects, and objects of cultural patrimony and the Central Council of the Tlingit & Haida Indian Tribes and the Wrangell Cooperative Association.

Additional Requestors and Disposition

Lineal descendants or representatives of any Indian Tribe or Native Hawaiian organization not identified in this notice that wish to claim these cultural items should submit a written request with information in support of the claim to Sven Haakanson, Curator of Native American Anthropology, Burke Museum, University of Washington, Box 353010, Seattle, WA 98195, telephone (206) 543-3210, email svenh@uw.edu, by May 20, 2020. After that date, if no additional claimants have come forward, transfer of control of the sacred objects and objects of cultural patrimony to the Central Council of the Tlingit & Haida Indian Tribes and the Wrangell Cooperative Association may proceed.

The Burke Museum is responsible for notifying Central Council of the Tlingit & Haida Indian Tribes and the Wrangell Cooperative Association that this notice has been published.

Dated: March 25, 2020.
Melanie O'Brien,
Manager, National NAGPRA Program.

[FR Doc. 2020-08322 Filed 4-17-20; 8:45 am]

BILLING CODE 4312-52-P